DEPARTMENT OF DEFENSE

Defense Acquisition Regulations System

48 CFR Part 239

[Docket DARS-2015-0046]

RIN 0750-AI72

Defense Federal Acquisition Regulation Supplement; Long-Haul Telecommunications (DFARS Case 2015-D023)

AGENCY: Department of Defense (DoD).

ACTION: Proposed rule.

SUMMARY: DoD is proposing to amend the Defense Federal Acquisition Regulation Supplement (DFARS) to add a definition of “long-haul telecommunications.”

DATES: Comments on the proposed rule should be submitted in writing to the address shown below on or before January 19, 2016, to be considered in the formation of a final rule.

ADDRESSES: Submit comments identified by DFARS Case 2015-D023, using any of the following methods:

○ Regulations.gov: http://www.regulations.gov. Submit comments via the Federal eRulemaking portal by entering “DFARS Case 2015-D023” under the heading “Enter keyword or ID” and selecting “Search.” Select the link “Submit a Comment” that corresponds with “DFARS Case 2015-D023.” Follow the instructions provided at the “Submit a Comment” screen. Please include your name, company name (if any), and “DARS Case 2015-D023 on your attached document.

○ Email: osd.dfars@mail.mil. Include DFARS Case 2015-D023 in the subject line of the message.

○ Fax: 571-372-6094.

○ Mail: Defense Acquisition Regulations System, Attn: Ms. Kyoung Lee, OUSD(AT&L) DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Kyoung Lee, telephone 571-372-6093.

SUPPLEMENTARY INFORMATION:

I. Background

DoD is proposing to amend DFARS 239.7401 to add a definition of “long-haul telecommunications.” The rule also amends DFARS 239.7402 to provide a pointer to internal Government procedures in DFARS Procedures, Guidance, and Information (PGI) to identify the Defense Information Systems Agency as the sole procurement activity for long-haul telecommunications requirements as addressed in DoD Directive 5105.19, Defense Information Systems Agency.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

DoD does not expect this rule to have a significant economic impact on a substantial number of small entities within the meaning of the Regulatory Flexibility Act, 5 U.S.C. 601, et seq., because this rule only adds a definition of “long-haul telecommunications” and provides a pointer to DFARS PGI for procedures internal to DoD. However, an initial regulatory flexibility analysis has been performed and is summarized as follows:

The purpose of this proposed rule is to amend the Defense Federal Acquisition Regulation Supplement (DFARS) to add a definition of “long-haul telecommunications” so that contracting officers will know when the procedures at DFARS Procedures, Guidance, and Information 239.7402 are applicable.

The requirements under this rule will apply to long-haul telecommunications (Product Service Code D304) requirements as addressed in DoD Directive 5105.19, Defense Information Systems Agency (DISA). According to data available in the Federal Procurement Data System (FPDS) for fiscal year 2014 and through July 31, 2015, DoD awarded 13,596 new long-haul telecommunications contracts. Approximately 3 percent (451) of the total were awarded to small entities (comprised of 222 unique small entities).

This rule does not create any new reporting or recordkeeping requirements. This rule does not duplicate, overlap, or conflict with any other Federal rules. There are no known significant alternatives to the rule.

DoD invites comments from small business concerns and other interested parties on the expected impact of this rule on small entities.

DoD will also consider comments from small entities concerning the existing regulations in subparts affected by this rule consistent with 5 U.S.C. 610. Interested parties must submit such comments separately and should cite 5 U.S.C. 610 (DFARS Case 2015-D023) in correspondence.

V. Paperwork Reduction Act

The rule does not contain any information collection requirements that require the approval of the Office of Management and Budget under the Paperwork Reduction Act (44 U.S.C. chapter 35).

List of Subjects in 48 CFR Part 239

Government procurement.

Jennifer L. Hawes,
Editor, Defense Acquisition Regulations System.

Therefore, 48 CFR part 239 is proposed to be amended as follows:

PART 239—ACQUISITION OF INFORMATION TECHNOLOGY

1. The authority citation for part 239 continues to read as follows:

Authority: 41 U.S.C. 1303 and 48 CFR chapter 1.

2. Amend section 239.7401 by—

a. Removing the alphabetical paragraph designation from each definition; and

b. Adding, in alphabetical order, a new definition for “Long-haul telecommunications”.

The addition reads as follows:

239.7401 Definitions.

* * * * *

Long-haul telecommunications means all general and special purpose long-distance telecommunications facilities and services (including commercial satellite services, terminal equipment and local circuitry supporting the long-haul service) to or from the post, camp, base, or station switch and/or main distribution frame (except for trunk lines to the first-serving commercial central office for local communications services).

* * * * *

3. Amend section 239.7402 by adding paragraph (d) to read as follows:

239.7402 Policy.

* * * * *

(d) Long-haul telecommunications services. When there is a requirement for procurement of long-haul telecommunications services, follow PGI 239.7402(d).

[FR Doc. 2015-29554 Filed 11-19-15; 8:45 am]

BILLING CODE 5001-06-P